ENVIRONMENTAL PROTECTION AGENCY

[EPA-HQ-OPP-2025-0026; FRL-12472-05-OCSPP]

Pesticide Product Registration; Receipt of Applications for New Uses (March-May 2025)

AGENCY: Environmental Protection Agency (EPA).

ACTION: Notice of receipt and request for comment.

SUMMARY: This document announces the Agency's receipt of and solicits comment on applications to register new pesticide products containing currently registered active ingredients that would entail a changed use pattern. The Agency is providing this notice in accordance with the Federal Insecticide, Fungicide, and Rodenticide Act (FIFRA). EPA uses the month and year in the title to identify when the Agency complied the applications identified in this notice of receipt. Unit II. of this document identifies certain applications received in 2023, 2024 and 2025 that are currently being evaluated by EPA, along with information about each application, including when it was received, who submitted the application, and the purpose of the application.

DATES: Comments must be received on or before September 3, 2025.

ADDRESSES: Submit your comments, identified by the docket identification (ID) number and the EPA File Symbol or the EPA Registration Number of interest as shown in Unit II. of this document, online at https://www.regulations.gov. Follow the online instructions for submitting comments. Do not submit electronically any information you consider to be Confidential Business Information (CBI) or other information whose disclosure is restricted by statute. Additional instructions on commenting and visiting the docket, along with more information about dockets generally, is available at https://www.epa.gov/dockets.

FOR FURTHER INFORMATION CONTACT: Each application summary in Unit II. specifies a contact division. The appropriate division contacts are identified as follows:

• BPPD (Biopesticides and Pollution Prevention Division) (Mail Code 7511M); Shannon Borges; main telephone number: (202) 566-1400; or

• RD (Registration Division) (Mail Code 7505T); Charles Smith; main telephone number: (202) 566-1030; email address: RDFRNotices@epa.gov.

SUPPLEMENTARY INFORMATION:

I. Executive Summary

A. Does this action apply to me?

This action provides information that is directed to the public in general.

B. What is the Agency's authority for taking this action?

EPA is taking this action pursuant to section 3(c)(4) of the Federal Insecticide, Fungicide, and Rodenticide Act (FIFRA), 7 U.S.C. 136a(c)(4), and 40 CFR 152.102.

C. What action is the Agency taking?

EPA is hereby providing notice of receipt and an opportunity to comment on the applications identified in Unit II. of this document that seek to register new pesticide products containing currently registered active ingredients that would entail a changed use pattern in accordance with FIFRA. Unit II. identifies and provides basic information about applications that are currently being evaluated by EPA. Notice of receipt of these applications does not imply a decision by the Agency on these applications. For actions being evaluated under EPA's public participation process for registration actions, there will be an additional opportunity for public comment on the proposed decisions. Please see EPA's public participation website for additional information on this process (https://www.epa.gov/pesticide-registration/participation-process-registration-actions).

D. What should I consider as I prepare my comments for EPA?

1. Submitting CBI. Do not submit CBI to EPA through https://www.regulations.gov or email. If you wish to include CBI in your comment, please follow the applicable instructions at https://www.epa.gov/dockets/commenting-epa-dockets#rules and clearly mark the information that you claim to be CBI. In addition to one complete version of the comment that includes CBI, a copy of the comment without CBI must be submitted for inclusion in the public docket. Information marked as CBI will not be disclosed except in accordance with procedures set forth in 40 CFR part 2.

2. Tips for preparing your comments. When preparing and submitting your comments, see the commenting tips at https://www.epa.gov//epa-dockets.

II. Applications To Register New Uses

A. What information is being provided in this document?

The following information is provided for the applications identified in Unit II.B.:

• EPA File Symbol or Registration number(s);

• EPA docket ID number for the application;

• Name and address of the applicant;

• Name of the active ingredient;

• Product type;

• Proposed uses;

• Date received; and

• Division to contact for that application.

Additional information about the application may also be available in the docket identified for the application.

B. What applications are identified in this document?

EPA received and is providing a public comment opportunity for the following applications:

• EPA Registration Numbers: 352-604 and 352-605. Docket ID number: EPA-HQ-OPP-2024-0155. Applicant: Corteva Agriscience, 9330 Zionsville Road, Indianapolis IN 46268. Active ingredient: Famoxadone. Product type: Fungicide. Proposed use(s): Brassica, leafy greens subgroup 4-16B; leafy greens subgroup 4-16A; celtuce; fennel, florence; fruiting vegetables subgroup 8-10A; fruiting vegetables subgroup 8-10B; leaf petiole subgroup 22B; succulent shelled bean subgroup 6-22C (East of the Rocky Mountains); mango; root vegetables subgroup 1B (except sugar beet); tuberous and corm vegetables subgroup 1C. Received: 09/29/2023. Contact: RD.

• EPA Registration Number: 62719-437 and 62719-442. Docket ID number: EPA-HQ-OPP-2024-0202. Applicant: Corteva Agriscience LLC, 9330 Zionsville Road, Indianapolis, IN 46268. Active ingredient: Methoxyfenozide. Product type: Insecticide. Proposed use (s): Edible podded bean subgroup 6-22A; edible podded pea subgroup 6-22B; field corn subgroup 15-22C; grain sorghum and millet subgroup 15-22E; pulses, dried shelled bean, except soybean, subgroup 6-22E, except pea, blackeyed, seed and pea, southern, seed; pulses, dried shelled pea subgroup 6-22F; rice subgroup 15-22F; succulent shelled bean subgroup 6-22C; succulent shelled pea subgroup 6-22D; sweet corn subgroup 15-22D; tropical and subtropical, medium to large fruit, edible peel, subgroup 23B. Received: 12/18/2023. Contact: RD.

• EPA Registration Numbers: 100-542 and 100-620. Docket ID number: EPA-HQ-OPP-2025-0080. Applicant: IR-4 Project Headquarters, North Carolina State University, 1730 Varsity Drive, Venture IV, Suite 210, Raleigh, NC 27606. Active ingredient: Prometryn. Product type: Herbicide. Proposed use: Leeks. Received: 12/02/2024. Contact: RD.

• EPA Registration Numbers: 71512-28; 71512-29. Docket ID number: EPA-HQ-OPP-2025-0119. Applicant: ISK Biosciences Corporation, 7470 Auburn Road, Suite A, Concord, OH 44077. Active ingredient: Tolpyralate. Product type: Herbicide. Proposed uses: Wheat subgroup 15-22A; barley subgroup 15-22B. Received: 12/18/2024. Contact: RD.

• EPA Registration Number: 8033-20, 8033-135, 8033-141, 8033-36 and 8033-23. Docket ID number: EPA-HQ-OPP-2025-0127. Applicant: Nisso American Inc. Active ingredient: Acetamiprid. Product type: Insecticide. Proposed use: Dragon fruit, sunflower subgroup 20B, vegetable, legume bean, edible podded, subgroup 6-22A, vegetable, legume pea, edible podded, subgroup 6-22B, vegetable, legume bean, succulent shelled, subgroup 6-22C, and vegetable, legume, pea, succulent shelled, subgroup 6-22D. Received: 01/31/2025. Contact: RD.

• EPA File Symbol: 264-REUA. Docket ID number: EPA-HQ-OPP-2025-0075. Applicant: Bayer CropScience, 800 N. Lindbergh Blvd., St. Louis, MO 63167. Active ingredient: Flumioxazin. Product type: Herbicide. Proposed use: Over-the-top use on herbicide-resistant cotton. Received: 08/29/2024. Contact: RD.

• EPA File Symbol: 59639-97, 59639-ETT. Docket ID number: EPA-HQ-OPP-2025-0075. Applicant: Valent U.S.A. LLC, 4600 Norris Canyon Road, San Ramon, CA 94583. Active ingredient: Flumioxazin. Product type: Herbicide. Proposed use: Over-the-top use on herbicide-resistant cotton. Received: 08/29/2024. Contact: RD.

• EPA Registration Numbers: 71711-6, 71711-7, 71711-25, 71711-27, 71711-41, 71711-58, and 71711-69. Docket ID number: EPA-HQ-OPP-2024-0071. Applicant: Nichino America, Inc., 4550 Linden Hill Road, Suite 501, Wilmington, DE 19808. Active ingredient: pyraflufen-ethyl. Product type: Herbicide. Proposed use: Oat. Received: 06/30/2023. Contact: RD.

• EPA Registration Numbers: 71512-21 and 71512-22. Docket ID number: EPA-HQ-OPP-2025-0041. Applicant: ISK Biosciences Corporation, 7470 Auburn Rd., Suite A, Concord, OH 44027. Active ingredient: Isofetamid. Product type: Fungicide. Proposed use: Tree nut, crop group 14-12. Received: 08/30/2024. Contact: RD.

• EPA Registration Number: 95699-2. Docket ID number: EPA-HQ-OPP-2025-0178. Applicant: NewLeaf Symbiotics Inc., 1005 North Warson Road, St. Louis, MO, 63132. Active ingredient: Methylorubrum extorquens strain NLS0042. Product type: Insecticide. Proposed use: Commercial use for pre-plant dip application, foliar application, and aerial application on crops. Received: 09/10/2024. Contact: BPPD.

• EPA File Symbol: 1021-2872 and 1021-EONN. Docket ID number: EPA-HQ-OPP-2025-0217. Applicant: McLaughlin Gormley King Company D/B/A MGK, 7325 Aspen Lane N., Minneapolis, MN 55428. Active ingredient: Veratrine (Sabadilla Alkaloids). Product type: Insecticide. Proposed use: Leafy Greens Crop Subgroup 4-16A, Fruiting Vegetables Crop Group 8-10 and Avocado. Received: 03/13/2025. Contact: RD.

• EPA Registration Numbers: 66222-151 and 11603-77. Docket ID number: EPA-HQ-OPP-2025-0148. Applicant: Makhteshim Agan of North America, Inc. (d/b/a ADAMA) 8601 Six Forks Road, Suite 300 Raleigh, NC 27615. Active ingredient: ethephon. Product type: fungicide. Proposed Use: Fig. Received: 12/19/2024. Contact: RD.

• EPA Registration Number(s): 70506-514, 70506-602, 70506-603, 91813-79. Docket ID number: EPA-HQ-OPP-2022-0455 Applicant: UPL Delaware Inc. and UPL NA Inc. 630 Freedom Business Center, Suite 402 King of Prussia, PA 19406. Active ingredient: Carboxin. Product type: fungicide. Proposed Use(s): vegetable, legume, forage and hay, except soybean, subgroup 7-22A; vegetable, legume, pulse, bean, dried shelled, except soybean, subgroup 6-22E; and vegetable, legume, pulse, pea, dried shelled, subgroup 6-22F. Received: 12/13/2021. Contact: RD.

• EPA Registration Number: 95699-1. Docket ID number: EPA-HQ-OPP-2025-0258. Applicant: NewLeaf Symbiotics, Inc., 1005 North Warson Road, St. Louis, MO 62132. Active ingredient: Methylorubrum populi strain NLS0089. Product type: Fungicide. Proposed use: For use as a pre-plant dip, dry seed treatment, and planter box seed treatment on agricultural food and nonfood crops, including turf in residential and institutional areas. Received: 11/14/2024. Contact: BPPD.

• EPA Registration Number: 96029-2. Docket ID number: EPA-HQ-OPP-2025-0247. Applicant: Agrotecnologías Naturales S.L., Ctra.T-214, s/n Km 4,125 43762 Riera de Gaià La Tarragona, Spain (c/o SciReg, Inc., 12733 Director's Loop, Woodbridge, VA 22192). Active ingredient: Trichoderma atroviride strain AT10. Product type: Fungicide. Proposed use: For use on rice and turf. Received: 1/11/2025. Contact: BPPD.

Authority: 7 U.S.C. 136 et seq.

Dated: July 28, 2025.
Kimberly Smith,
Acting Director, Information Technology and Resources Management Division, Office of Program Support.

[FR Doc. 2025-14651 Filed 8-1-25; 8:45 am]

BILLING CODE 6560-50-P